ENVIRONMENTAL PROTECTION AGENCY

[EPA-New England Region I—EPA-R01-OW-2012-0200; FRL-9661-8]

Massachusetts Marine Sanitation Device Standard—Receipt of Petition

AGENCY: Environmental Protection Agency (EPA).

ACTION: Notice—Receipt of petition.

SUMMARY: Notice is hereby given that a petition has been received from the Commonwealth of Massachusetts requesting a determination by the Regional Administrator, U. S. Environmental Protection Agency, that adequate facilities for the safe and sanitary removal and treatment of sewage from all vessels are reasonably available for the waters of Mount Hope Bay.

DATES: “Comments must be submitted by May 21, 2012.”

ADDRESSES: Submit your comments, identified by Docket ID No. EPA-R01-OW-2012-0200, by one of the following methods:

www.regulations.gov, Follow the on-line instructions for submitting comments.

• Email: rodney.ann@epa.gov.

• Fax: (617) 918-0538.

Mail and hand delivery: U.S. Environmental Protection Agency—New England Region, Five Post Office Square, Suite 100, OEP06-1, Boston, MA 02109-3912. Deliveries are only accepted during the Regional Office's normal hours of operation (8 a.m.-5 p.m., Monday through Friday, excluding legal holidays), and special arrangements should be made for deliveries of boxed information.

Instructions: Direct your comments to Docket ID No. EPA-R01-OW-2012-0200. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov, or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copy-righted material, will be publicly available only in hard copy. Publicly available docket materials are available either electronically in www.regulations.gov or in hard copy at the U.S. Environmental Protection Agency—New England Region, Five Post Office Square, Suite 100, OEP06-01, Boston, MA 02109-3912. Such deliveries are only accepted during the Regional Office's normal hours of operation, and special arrangements should be made for deliveries of boxed information. The Regional Office is open from 8 a.m.-5 p.m., Monday through Friday, excluding legal holidays. The telephone number is (617) 918-1538.

FOR FURTHER INFORMATION CONTACT: Ann Rodney, U.S. Environmental Protection Agency—New England Region, Five Post Office Square, Suite 100, OEP06-01, Boston, MA 02109-3912. Telephone: (617) 918-1538, Fax number: (617) 918-0538; email address: rodney.ann@epa.gov.

SUPPLEMENTARY INFORMATION: Notice is hereby given that a petition has been received from the Commonwealth of Massachusetts requesting a determination by the Regional Administrator, U.S. Environmental Protection Agency, pursuant to Section 312(f)(3) of Public Law 92-500 as amended by Public Law 95-217 and Public Law 100-4, that adequate facilities for the safe and sanitary removal and treatment of sewage from all vessels are reasonably available for Mount Hope Bay.

The Proposed No Discharge Area for Mount Hope Bay
Waterbody/general area | Latitude | Longitude
The northern edge of the NDA boundary on the Taunton River is the Center Street/Elm Street bridge at: | 41°50′5.90″ N | 71°6′29.34″ W
The northern edge of the NDA boundary on the Lees River is the Route 6 bridge at: | 41°44′24.87″ N | 71°11′12.72″ W
The northern edge of the NDA boundary on the Cole River is the Route 6 Bridge at: | 41°44′47.03″ N | 71°12′7.81″ W
The southwestern edge of the NDA boundary is the Rhode Island/Massachusetts border at Swansea at: | 41°42′43.94″ N | 71°13′34.27″ W
The southeastern edge of the NDA boundary is the Rhode Island/Massachusetts border at Fall River at: | 41°40′30.28″ N | 71°11′43.86″ W
The Mount Hope Bay NDA will encompass the tidal waters of Dighton, Berkley, Freetown, Somerset, Swansea, and Fall River to the mean high tide line.

There are marinas, yacht clubs and public landings/piers in the proposed area with a combination of mooring fields and dock space for the recreational and commercial vessels. Mount Hope Bay is a shared waterbody between Massachusetts and Rhode Island and in 1998 Rhode Island designated all its state waters as no discharge, including its portion of Mount Hope Bay. Massachusetts has certified that there are three pumpout facilities, within the proposed state waters, available to the boating public. A list of the facilities, locations, contact information, hours of operation, and water depth is provided at the end of this petition.

Massachusetts has provided documentation indicating that the total vessel population is estimated to be 585 in the proposed area. It is estimated that 523 of the total vessel population may have a Marine Sanitation Device (MSD) of some type. The total number of MSDs certified by the Commonwealth of Massachusetts is an overestimate, conservatively, giving the boating public a 1:175 ratio of pumpouts to boats, which is much less than the ratio suggested by EPA Region 1 guidelines (300-600 vessels for every one facility.)

Pumpout Facilities Within Proposed No Discharge Area
Name | Town | Contact information | Hours of operation | Depth (Ft)
Fall River Harbormaster Boat | Fall River | 774-644-3609, VHF 16 | On Call | N/A
Somerset Harbormaster Boat | Somerset | 774-319-3126, VHF 9, 16 | 8:30 a.m.-8:30 p.m. | N/A
Somerset Land-based Pumpout Station at Town Boat Ramp | Somerset | N/A Self Serve | 8 a.m.-5 p.m. Weekdays; 8 a.m.-6 p.m. Weekends | 3.5

Dated: April 6, 2012.
H. Curtis Spalding,
Regional Administrator, New England Region.

[FR Doc. 2012-9448 Filed 4-18-12; 8:45 am]

BILLING CODE 6560-50-P